DEPARTMENT OF DEFENSE

Department of the Army

Proposed Collection; Comment Request

AGENCY: Deputy Chief of Staff for Personnel (DAPE-ZXI-RM), DoD.

ACTION: Notice.

SUMMARY: In compliance with section 3506(c)(2)(A) of the Paperwork Reduction Act of 1995, the Department of the Army announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by October 1, 2001.

ADDRESSES: Written comments and recommendations on the proposed information collection should be sent to Department of the Army, Military Traffic Management Command, 200 Stovall Street, Alexandria, Virginia 22332-5000, ATTN: MTPP-S (Ben Jozwiak). Consideration will be given to all comments received within 60 days of the date of publication of this notice.

FOR FURTHER INFORMATION CONTACT: To request more information on this proposed information collection or to obtain a copy of the proposal and associated collection instruments, please write to the above address, or call Department of the Army Reports clearance office at (703) 614-0454.

Title, Associated Form, and OMB Number: Tender of Service and Letter of Intent for Personal Property Household Goods and Unaccompanied Baggage Shipments, DD Form 619, OMB Control Number 0702-022.

Needs and Uses: Since household goods (HHG) move at Government expense, data is needed to choose the best service at lowest cost to the Government. The information provided by the carrier serves as a bid for contract to transport HHG, unaccompanied baggage, mobile homes, and boats. This information is collected on a regular basis, but is submitted intermittently throughout the year. Best-service-for-least-cost carrier receives the contract. DD Form 619 certifies that accessorial services were actually performed. The Government would not know which carriers to use for shipping personal property if they could not collect this information.

Affected Public: Business or other for-profit.

Annual Burden Hours: 70,548.

Number of Respondents: 2,636.

Responses per Respondent: 441,677.

Average Burden per Response: 5 minutes.

Frequency: On occasion.

SUPPLEMENTARY INFORMATION: The Tender of Service is the contractual agreement between DOD and the carrier, under which the carrier agrees to provide service in accordance with the terms and conditions cited in the Tender of Service. In accordance with the provisions of DOD 4500.9-R, the DD Form 619 is used by the household goods carrier industry to itemize packing material and other charges for billing purposes on household goods and unaccompanied baggage shipments.

Luz D. Ortiz,
Army Federal Register Liaison Officer.

[FR Doc. 01-18980 Filed 7-30-01; 8:45 am]

BILLING CODE 3710-08-M